FEDERAL COMMUNICATIONS COMMISSION

47 CFR Part 64

[CC Docket No. 92-105; FCC 00-257]

Require 711 Dialing for Nationwide Access to Telecommunications Relay Services; Correction

AGENCY: Federal Communications Commission.

ACTION: Correction.

SUMMARY: The Commission published a document in the Federal Register at 66 FR 54165-01 (October 26, 2001) which corrected certain rules of the Federal Communications Commission (Commission) that concern access to telecommunications relay services (TRS). The document should have amended rule § 64.603 to add a third sentence to the undesignated introductory paragraph that reads: “In addition, each common carrier providing telephone voice transmission services shall provide, not later than October 1, 2001, access via the 711 dialing code to all relay services as a toll free call.” This document corrects the sentence to provide the correct date of October 1, 2001.

DATES: Effective October 12, 2000.

FOR FURTHER INFORMATION CONTACT: Susan Magnotti, 202/418-0871, fax 202/418-2345, TTY 202/418-0484, smagnott@fcc.gov, Network Services Division, Common Carrier Bureau.

SUPPLEMENTARY INFORMATION: The Federal Communications Commission published a document correcting rule §§ 64.601 and 64.603 in the Federal Register. In FR Doc. 01-26942, published October 26, 2001 (66 FR 54165), make the following correction:

PART 64—[CORRECTED]

1. On page 54165, in the second column, correct the rule amendment in § 64.603 to read as follows:

3. In § 64.603, revise the undesignated introductory text to read as follows:

§ 64.603 Provision of services.

Each common carrier providing telephone voice transmission services shall provide, not later than July 26, 1993, in compliance with the regulations prescribed herein, throughout the area in which it offers services, telecommunications relay services, individually, through designees, through a competitively selected vendor, or in concert with other carriers. Speech-to-speech relay service and interstate Spanish language relay service shall be provided by March 1, 2001. In addition, each common carrier providing telephone voice transmission services shall provide, not later than October 1, 2001, access via the 711 dialing code to all relay services as a toll free call. A common carrier shall be considered to be in compliance with these regulations:

* * * * *

Federal Communications Commission.
Magalie Roman Salas,
Secretary.

[FR Doc. 01-31867 Filed 12-27-01; 8:45 am]

BILLING CODE 6712-01-P